DEPARTMENT OF ENERGY

Federal Energy Regulatory Commission

Combined Notice of Filings #1

Take notice that the Commission received the following exempt wholesale generator filings:

Docket Numbers: EG22-143-000.

Applicants: Blue Harvest Solar Park LLC.

Description: Blue Harvest Solar Park LLC submits Notice of Self-Certification of Exempt Wholesale Generator Status.

Filed Date: 6/13/22.

Accession Number: 20220613-5121.

Comment Date: 5 p.m. ET 7/5/22.

Take notice that the Commission received the following electric rate filings:

Docket Numbers: ER21-42-000.

Applicants: Tenaska Power Services Co.

Description: Refund Report: Refund Report to be effective N/A.

Filed Date: 6/10/22.

Accession Number: 20220610-5087.

Comment Date: 5 p.m. ET 7/1/22.

Docket Numbers: ER22-1608-001.

Applicants: Hallador Power Company, LLC.

Description: Tariff Amendment: Amendment to 1 to be effective 12/31/9998.

Filed Date: 6/13/22.

Accession Number: 20220613-5115.

Comment Date: 5 p.m. ET 7/5/22.

Docket Numbers: ER22-2091-000.

Applicants: Calhoun Solar Energy LLC.

Description: Baseline eTariff Filing: Application for Market-Based Rate Authorization to be effective 8/13/2022.

Filed Date: 6/13/22.

Accession Number: 20220613-5029.

Comment Date: 5 p.m. ET 7/5/22.

Docket Numbers: ER22-2092-000.

Applicants: Tri-State Generation and Transmission Association, Inc.

Description: § 205(d) Rate Filing: Amendment to Rate Schedule FERC No. 13 to be effective 8/12/2022.

Filed Date: 6/13/22.

Accession Number: 20220613-5058.

Comment Date: 5 p.m. ET 7/5/22.

Docket Numbers: ER22-2093-000.

Applicants: Midcontinent Independent System Operator, Inc., Ameren Illinois Company.

Description: § 205(d) Rate Filing: Midcontinent Independent System Operator, Inc. submits tariff filing per 35.13(a)(2)(iii: 2022-06-13_SA 3028 Ameren IL-Prairie Power 1st Rev Project#18 Disco to be effective 6/14/2022.

Filed Date: 6/13/22.

Accession Number: 20220613-5080.

Comment Date: 5 p.m. ET 7/5/22.

Docket Numbers: ER22-2094-000.

Applicants: Arizona Public Service Company.

Description: § 205(d) Rate Filing: Service Agreement No. 398, Red Rock Solar Surplus to be effective 5/17/2022.

Filed Date: 6/13/22.

Accession Number: 20220613-5082.

Comment Date: 5 p.m. ET 7/5/22.

Docket Numbers: ER22-2096-000.

Applicants: ITC Midwest LLC.

Description: § 205(d) Rate Filing: Filing of DTIA with Tipton to be effective 6/13/2022.

Filed Date: 6/13/22.

Accession Number: 20220613-5091.

Comment Date: 5 p.m. ET 7/5/22.

Docket Numbers: ER22-2096-001.

Applicants: ITC Midwest LLC.

Description: Tariff Amendment: Amendment to Filing of DTIA with Tipton to be effective 8/13/2022.

Filed Date: 6/13/22.

Accession Number: 20220613-5114.

Comment Date: 5 p.m. ET 7/5/22.

Docket Numbers: ER22-2097-000.

Applicants: Southern California Edison Company.

Description: § 205(d) Rate Filing: SCE Corrected Filing to Catalina Solar Second Amended LGIA to be effective 3/5/2022.

Filed Date: 6/13/22.

Accession Number: 20220613-5094.

Comment Date: 5 p.m. ET 7/5/22.

Docket Numbers: ER22-2098-000.

Applicants: Wisconsin Public Service Corporation.

Description: § 205(d) Rate Filing: Ministerial MBR Tariff Revision to be effective 8/12/2022.

Filed Date: 6/13/22.

Accession Number: 20220613-5098.

Comment Date: 5 p.m. ET 7/5/22.

Docket Numbers: ER22-2099-000.

Applicants: Wisconsin River Power Company.

Description: § 205(d) Rate Filing: Ministerial MBR Tariff Revision to be effective 8/12/2022.

Filed Date: 6/13/22.

Accession Number: 20220613-5104.

Comment Date: 5 p.m. ET 7/5/22.

Docket Numbers: ER22-2100-000.

Applicants: PacifiCorp.

Description: § 205(d) Rate Filing: BPA NITSA—(SE Idaho Area) Rev 8 to be effective 6/1/2022.

Filed Date: 6/13/22.

Accession Number: 20220613-5111.

Comment Date: 5 p.m. ET 7/5/22.

Docket Numbers: ER22-2101-000.

Applicants: PJM Interconnection, L.L.C.

Description: § 205(d) Rate Filing: Original ISA, Service Agreement No. 6505; Queue No. AE1-240 to be effective 5/13/2022.

Filed Date: 6/13/22.

Accession Number: 20220613-5120.

Comment Date: 5 p.m. ET 7/5/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 13, 2022.
Debbie-Anne A. Reese,
Deputy Secretary.

[FR Doc. 2022-13118 Filed 6-16-22; 8:45 am]

BILLING CODE 6717-01-P